DEPARTMENT OF JUSTICE

National Institute of Corrections

Solicitation for a Cooperative Agreement—Effective Supervision of Women Defendants and Offenders in the Community

AGENCY: National Institute of Corrections, Department of Justice.

ACTION: Solicitation for a cooperative agreement.

SUMMARY: The Department of Justice (DOJ), National Institute of Corrections NIC), announces the availability of funds in FY 2003 for a cooperative agreement to develop a 16-hour curriculum on Effective Supervision of Women Defendants and Offenders in the Community. NIC will work with a single cooperative agreement awardee to develop a curriculum for pre-service and in-service training of community correction's managers and line staff on the effective supervision of women defendants and offenders in the community. The new curriculum will focus on the practical knowledge and skills that line probation, parole, and pretrial service officers need to enhance outcomes and improve rates of successful completion for women defendants and offenders in the community. It will employ adult learning techniques and develop modules which can be used in flexible training formats for a maximum of 16 hours. This agreement is for the design and development of a training curriculum. The piloting or direct delivery of the curriculum is not included within this scope of work. No funds will be transferred to State or local governments.

Background: While the majority of probation and parole populations remain predominantly male, there has been an increase in the percentage of women under community supervision while the percentage of males under community supervision has declined. In 2001 women comprised 22% of probation and 12% of parole caseloads. When compared to the 1991 data, this represents an increase of 22% for women on probation and an increase of 50% on parole compared to a 5% decline in probation for men and a 4% decline in the number of men released on parole. (BJA, 8/02).

Recent research literature on women offenders has identified to policy makers the differential risk and need presented by this population. Yet community supervision and treatment practices generally do not incorporate this information. The perception that women offenders are difficult to work with is due, in part, to the many competing issues, criminogenic and non-criminogenic, they bring when entering or re-entering the system. Existing correctional practices often miss the underlying causes of women's criminal behavior. System challenges such as cross-gender supervision, inappropriate staff/offender relationships, and staff uncertainty as to the existence and application of appropriate interventions for the female offender contribute to this misconception. The result is that established case planning, supervision, and treatment practices often have less than the desired impact and, in some cases, can exacerbate the problems women bring to the criminal justice system.

Over the years NIC has developed training materials and offered technical assistance on a wide-range of topics that impact women in the criminal justice system. These topics include policy development, staff sexual misconduct, prison health care for women, and operational issues in women's prisons. Like their male counterparts, the majority of incarcerated women will complete their sentence and return to their communities. The training materials and technical assistance that NIC has offered have provided helpful resources in working with women offenders.

Purpose: The National Institute of Corrections is seeking an applicant, organization, or team which offers curriculum design expertise and a broad knowledge of women offenders and the field of corrections. Specific expertise should include effective supervision practices and expertise in producing a competency-based curriculum. Producing the curriculum includes the writing, editing, formation, assembling, packaging, and expertise in adult learning theory and training.

The purpose of this cooperative agreement is:

1. To fully develop and refine one (1) 16-hour training curriculum package on Effective Supervision of Women Defendants and Offenders in the Community. The curriculum will have the following elements:

a. Instructor's Guide with Lesson Plans. This must include performance objectives that specify the knowledge, or skills/competencies that will be obtained by the participants. They must be detailed to the degree that other trainers with some experience in the topic can use them to deliver training.

b. Participant Manual and Materials that correlate with each module, topic by topic, as appropriate to deliver the training. These materials may include overviews, published articles (if copyrighted must obtain copyright release), check lists, key points outliners, examples of instruments, reports and other materials used by the participants to perform their work. Evaluation questions and strategies (if appropriate) that will be used pre or post delivery for the curriculum as well as resource materials such as video and audio tapes, books, journals and other information to support the objectives of the curriculum are to be included.

Work To Be Performed by the Awardee: The following represents the kinds of work activity required by the project and the expectations of the relationship between NIC and the awardee.

• Consult with the NIC Program Manager on an agreed time line to assure progress and understanding the scope of the work.

• Thoroughly review existing training materials developed by NIC, Office of justice Programs (OJP), or other agencies for relevant portions that could be re-written for application to this project. Key products include but are not limited to:

• Gender-Responsive Strategies: Research, Practice, and Guiding Principles for Women Offenders (Bloom, Owen, Covington, 11/02)

• Critical Issues in Managing Women Offenders (NIC, 02-I502)

• Responding to Women Offenders in the Community: Topics in Community Corrections (NIC, Topics in Community Corrections, 2000)

• Sentencing Women Offenders: A training Curriculum for Judges (NIC, Cicero and DeCostanzo, 2001)

Each of those items can be downloaded via the Web site at www.nicic.org/services/coop/03-women.htm.

• The successful applicant would conduct necessary planning with content experts who have experience with supervision of women offenders, understand the importance of criminogenic and non-criminogenic factors in the lives of women, familiarity with cognitive behavioral and social learning approaches in effective interventions with offenders to generate the framework, concepts, modules, content, strategies and performance objectives. (All of the above is subject to final approval by the Program Manager).

• Assign and coordinate writing, developing and revisions of the modules and content areas for the curriculum including multi-media materials.

• Develop, edit, revise, format and package the curriculum, lesson plans, and other course materials.

• Submit preliminary draft for review by the Program Manager per the specified time line. Make revisions and submit second draft if requested.

• A camera-ready copy of the final document must be submitted along with the electronic files, including all graphic images used in the document, on a 3.5″ floppy, zip disk, or CD-ROM. The final document may be submitted in Word Perfect 7.0 (or higher) or Microsoft Word 97 (or higher). Graphic images should be print quality, 600 dpi or higher.

Application Requirements: Applicants must prepare a proposal that describes their plan to provide the project outcomes. The plan must include goals and objectives, methodology, deliverables, management plan, and an overall project budget for the full 12 months. Applicants must identify their key project staff and the relevant expertise of each, and address the manner in which they would perform all tasks in collaboration with the NIC Project Manager. Proposals are limited to twenty-five double-spaced pages in length, not including resume, other addenda, and SF-424 forms.

Authority: Public Law 93-415.

Funds Available: Project funds are limited to a maximum total of $70,000 for both direct and indirect costs for 12 months. NIC is committed to funding the full 12 month project and project activity must be completed within 12 months of the date of the award. Funds may only be used for activities that are linked to the desired outcomes of the project.

All products from this funding effort will be in the public domain and available to interested agencies through the National Institute of Corrections.

Antideficiency Act: Nothing contained herein shall be construed to obligate the parties to any expenditure or obligation of funds in excess or in advance of appropriation in accordance with the Antideficiency Act, 31 U.S.C. 1341.

Deadline for Receipt of Applications: Applications must be received by 4 p.m. on December 17, 2002. They should be addressed to: National Institute of Corrections, 320 First St., NW., Washington, DC 20534. Attention: Administrative Officer. Applicants are encouraged to use Federal Express, UPS or similar service to ensure delivery is not delayed. Hand delivered applications can be brought to 500 First Street, NW., Washington, DC 20534. The Front desk will call (202) 307-3106 ext. 0 for pickup. Faxed or e-mailed applications will not be accepted.

Addresses and Further Information: Application forms may be obtained through the NIC Web site: http://www.nicic.org. Under “Additional Opportunities” click on the appropriate cooperative agreement title. Requests for the application kit, which consists of a copy of this announcement and copies of the required forms, can also be directed to Rita Rippetoe, Cooperative Agreement Control Office, National Institute of Corrections by calling (800) 995-6429 extension 112. She can also be contacted by E-mail via rrippetoe@bop.gov.

Technical and/or programmatic questions concerning this announcement are encouraged and should be directed to Maureen Buell at the above address or by calling (800) 995-6423 extension 40121, or (202) 514-0121, or by E-mail via mbuell@bop.gov.

Eligible Applicants: An eligible applicant is any state or general unit of local government, public, or private agency, educational institution, organization, team, or individual with the requisite skills to successfully meet the outcome objectives of the project.

Review Considerations: Applications received under this announcement will be subjected to an NIC three to five member Peer Review Process.

Executive Order 12372: This project is not subject to the provisions of E.O. 12372.

Number of Awards: One (1).

NIC Application Number: 03C02. This number should appear as a reference line in the cover letter, in box 11 of Standard Form 424, and on the outside of the delivery envelope.

The Catalog of Federal Domestic Assistance Number is: 16.601. Title—Corrections: Staff Training and Development.

Dated: October 31, 2002.
Morris L. Thigpen,
Director, National Institute of Corrections.

[FR Doc. 02-28209 Filed 11-5-02; 8:45 am]

BILLING CODE 4410-36-M